OFFICE OF PERSONNEL MANAGEMENT

President's Commission on White House Fellowships Advisory Committee: Closed Meeting

AGENCY: President's Commission on White House Fellowships, Office of Personnel Management.

ACTION: Notice of meeting.

SUMMARY: The President's Commission on White House Fellowships (PCWHF) was established by an Executive Order in 1964. The PCWHF is an advisory committee composed of Special Government Employees appointed by the President.

Name of Committee: President's Commission on White House Fellowships.

Date: January 30, 2018.

Time: 8:00 a.m.-5:30 p.m.

Place: Eisenhower Executive Office Building.

Agenda: The Commission holds a mid-year meeting to talk with current Fellows on how their placements are going and discuss preparations for future events.

Location: Washington, DC.

FOR FURTHER INFORMATION CONTACT: By mail: Elizabeth Pinkerton, Director, President's Commission on White House Fellowships, 712 Jackson Place NW, Washington, DC 20503; By phone: 202-395-4522.

President's Commission on White House Fellowships.
Elizabeth Pinkerton,
Director.

[FR Doc. 2018-00766 Filed 1-17-18; 8:45 am]

BILLING CODE 6325-44-P